DEPARTMENT OF HEALTH AND HUMAN SERVICES

Administration for Children and Families

[Program Announcement No. OCS-2002-17]

Grant to the Community Nutrition Institute

AGENCY: Office of Community Services (OCS), Administration for Children and Families (ACF), Department of Health and Human Services (DHHS).

ACTION: Award announcement.

SUMMARY: Notice is hereby given that a noncompetitive grant award is being made to the Community Nutrition Institute to support a nationwide initiative for the Community Food and Nutrition Program (CFNP). The nationwide initiative is a national research project to study the impact of current CFNP projects on low-income communities, families, and children nationwide. The results of the study will enable OCS to improve the quality of service provided to the network of CFNP grantees, and to assess the program's impact on improving the health and nutritional well-being of low-income families, children and individuals nationwide.

The CFNP legislation requires that the Department fund a Nationwide Program for Fiscal Year 2002. Pub. L. 97-35 as amended by Pub. L. 105-285 at section 681(b)(2)(C) states that “* * * The Secretary shall * * * make grants * * * on a competitive bases * * * for nationwide programs. * * * ” Since the Department did not receive any applications in response to our CFNP Nationwide Program Announcement, this project is being funded noncompetitively. It is expected to provide valuable information useful to this Department and other practitioners regarding research and demonstration initiatives related to welfare reform and the well-being of low-income children and families. This is a three-year project. The cost of the project is $300,000 for the first year.

FOR FURTHER INFORMATION CONTACT: Catherine Rivers, Administration for Children and Families, Office of Community Services, 370 L'Enfant Promenade, SW., Washington, DC 20447, Phone: 202-401-5252.

Dated: September 18, 2002.
Clarence H. Carter,
Director, Office of Community Services.

[FR Doc. 02-25394 Filed 10-4-02; 8:45 am]

BILLING CODE 4184-01-M